DEPARTMENT OF THE INTERIOR

Bureau of Land Management

[BLM_OR_FRN_MO4500160505]

Notice of Realty Action: Application by Randall L. Christian and Lynn L. Christian for Conveyance of Federally Owned Mineral Interests in Lake County, OR

AGENCY: Bureau of Land Management, Interior.

ACTION: Notice of realty action.

SUMMARY: The Bureau of Land Management (BLM) is processing an application for the conveyance of federally owned mineral interests in a 640-acre parcel of land located in Lake County, Oregon, to the surface owners, Randall L. Christian and Lynn L. Christian.

DATES: Interested persons may submit written comments to the BLM on or before March 25, 2024.

ADDRESSES: Submit written comments to the BLM Lakeview Field Office, 1301 S. G Street, Lakeview, OR 97630.

FOR FURTHER INFORMATION CONTACT: Jami Ludwig, Field Manager, BLM Lakeview, at the address listed earlier, by telephone at (541) 947-6102, or email at jludwig@blm.gov. Individuals in the United States who are deaf, deafblind, hard of hearing, or have a speech disability may dial 711 (TTY, TDD, or TeleBraille) to access telecommunications relay services.

SUPPLEMENTARY INFORMATION: The BLM is processing an application under section 209 of the Federal Land Policy and Management Act (FLPMA) to convey federally owned mineral interests that total 640 acres situated in Lake County, Oregon. The location of the federally owned mineral interests proposed for conveyance is identical in location to the privately owned surface interest of the applicant, and is described as follows:

Willamette Meridian, Oregon

T. 25 S., R. 14 E., sec. 25.

The area described contains 640 acres, according to the official plat of the survey of the said land, on file with the BLM.

Under certain conditions, section 209(b) of FLPMA authorizes the conveyance of the federally owned mineral interests in land when the surface estate is not federally owned. The objective is to allow consolidation of the surface and mineral interests when either one of the following conditions exist: (1) There are no known mineral values in the land; or (2) The reservation of the mineral rights in the United States is interfering with or precluding appropriate nonmineral development of the land and such development is a more beneficial use of the land than mineral development.

The applicant has deposited a sufficient sum of funding to cover the administrative costs of processing the application, including, but not limited to, the cost of the mineral potential report.

Subject to valid existing rights, on February 9, 2024 the federally owned mineral interests in the land described above is hereby segregated from all forms of appropriation under the public land laws, including the mining laws. The segregative effect will terminate upon: (1) Issuance of a patent or other document of conveyance of the mineral interests; (2) Final rejection of the application; or (3) February 9, 2026, whichever occurs first.

Before including your address, phone number, email address, or other personal identifying information in your comment, you should be aware that your entire comment—including your personal identifying information—may be made publicly available at any time. While you can ask us in your comment to withhold your personal identifying information from public review, we cannot guarantee that we will be able to do so.

(Authority: 43 CFR 2720.1-1(b))

James Forbes,
Lakeview District Manager.

[FR Doc. 2024-02733 Filed 2-8-24; 8:45 am]

BILLING CODE 4331-24-P